ENVIRONMENTAL PROTECTION AGENCY

[FRL-9923-31-Region 2]

Clean Water Act Section 303(d): Availability of List Decisions

AGENCY: Environmental Protection Agency (EPA).

ACTION: Notice and request for comments.

SUMMARY: This notice announces EPA's decision to identify certain water quality limited waters and the associated pollutant to be listed pursuant to the Clean Water Act Section 303(d)(2) on New York's list of impaired waters, and requests public comment. Section 303(d)(2) requires that States submit, and EPA approve or disapprove, lists of waters for which existing technology-based pollution controls are not stringent enough to attain or maintain State water quality standards and for which total maximum daily loads (TMDLs) must be prepared.

On January 13, 2015, EPA disapproved New York's decision to exclude Jones Inlet/Jones Bay from its 2014 303(d) list. EPA evaluated existing and readily available data and information and concluded that the applicable narrative water quality standard for nutrients is being exceeded in Jones Inlet/Jones Bay. Based on this evaluation, EPA has determined that Jones Inlet/Jones Bay is not fully attaining the water quality standards established by New York State and should be included on the State's 303(d) list of impaired waters.

EPA is providing the public the opportunity to review its decision to add this water to New York's 303(d) list, as required by 40 CFR 130.7(d)(2). EPA will consider public comments before transmitting its final listing decision to the State.

DATES: Comments must be submitted to EPA on or before March 25, 2015.

ADDRESSES: Comments on the proposed decision should be sent to Dana Flint, U.S. Environmental Protection Agency Region 2, 290 Broadway, New York, NY 10007, email greenlee.dana@epa.gov, telephone (212)-637-3635. Oral comments will not be considered. Copies of EPA's letter explaining the rationale for EPA's decision concerning New York's list can be obtained by calling or emailing Mrs. Flint at the address above. Underlying documents from the administrative record for these decisions are available for public inspection at the above address. Please contact Mrs. Flint to schedule an inspection.

FOR FURTHER INFORMATION CONTACT: Dana Flint at (212) 637-3635 or at greenlee.dana@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of section 303(d) of the CWA (40 CFR 130.7). The regulations require states to identify water quality limited waters still requiring TMDLs every two years. The lists of waters still needing TMDLs must also include priority rankings, identify the pollutants causing the impairment, and identify the waters targeted for TMDL development during the next two years (40 CFR 130.7).

Consistent with EPA's regulations, New York submitted its listing decisions under Section 303(d)(2) to EPA in correspondence dated November 3, 2014, January 5, 2015 and January 7, 2015. On January 13, 2015, EPA partially approved New York's submittal of the 303(d) list, and disapproved New York's decision to exclude Jones Inlet/Jones Bay from the 2014 list. EPA is soliciting public comment on the addition of this water to the State's list, as required by 40 CFR 130.7(d)(2).

Authority: Clean Water Act, 33 U.S.C. 1251 et seq.

Dated: January 26, 2015.
Judith A. Enck,
Regional Administrator, U.S. Environmental Protection Agency, Region 2.

[FR Doc. 2015-03578 Filed 2-20-15; 8:45 am]

BILLING CODE 6560-50-P